DEPARTMENT OF COMMERCE

National Oceanic and Atmospheric Administration

[I.D. 010201C]

North Pacific Fishery Management Council; Public Meetings

AGENCY: National Marine Fisheries Service (NMFS), National Oceanic and Atmospheric Administration (NOAA), Commerce.

ACTION: Notice of emergency meetings of the North Pacific Fishery Management Council (Council) and its Advisory Panel.

SUMMARY: The North Pacific Fishery Management Council and its Advisory Panel will meet in Seattle in early January to consult with NMFS on Steller sea lion protective measures for 2001 and 2001.

DATES: The meeting of the Advisory Panel will be held on January 11, 2001. The Council meeting will be held January 12-13, 2001.

ADDRESSES: The meetings will be held at the Doubletree Hotel, Seattle Airport, 18740 Pacific Highway South, Seattle, WA.

Council address: North Pacific Fishery Management Council, 605 W. 4th Ave., Suite 306, Anchorage, AK 99501-2252.

FOR FURTHER INFORMATION CONTACT: Council staff, telephone: 907-271-2809.

SUPPLEMENTARY INFORMATION: All meetings will be held at the Hotel. The Advisory Panel will meet on Thursday, January 11, beginning at 8:00 a.m., concluding by 6:00 p.m. The Council will begin at 8:00 a.m. on Friday, January 12, and may continue into Saturday, January 13th, if necessary. Topics for both meetings include:

1. Consult with NMFS on emergency rule proposed for January 20-July 20, 2001.

2. NMFS proposed regulations for July 21-December 31, 2001; recommend changes as appropriate.

3. Establish a schedule for development of protective measures for 2002.

4. Develop schedule and proposal for utilizing expertise of the National Academy of Sciences to conduct an independent scientific review of the November 30, 2000 biological opinion and it’s underlying hypothesis and reasonable and prudent alternatives.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen at 907-271-2809 at least 7 working days prior to the meeting date.

Dated: January 2, 2001.
Richard W. Surdi,
Acting Director, Office of Sustainable Fisheries, National Marine Fisheries Service.

[FR Doc. 01-375 Filed 1-4-01; 8:45 am]

BILLING CODE: 3510-22 -S